DEPARTMENT OF COMMERCE

International Trade Administration

[A-570-831]

Fresh Garlic From the People's Republic of China: Extension of Time Limits for Final Results of the Antidumping Duty Administrative Review

AGENCY: Import Administration, International Trade Administration, Department of Commerce.

DATES: Effective Date: May 25, 2010.

FOR FURTHER INFORMATION CONTACT: Scott Lindsay, AD/CVD Operations, Office 6, Import Administration, International Trade Administration, U.S. Department of Commerce, 14th Street and Constitution Avenue, NW., Washington, DC 20230; telephone: (202) 482-0780.

Background

On December 24, 2008, the Department of Commerce (Department) published the initiation of an administrative review of fresh garlic from the People's Republic of China covering the period November 1, 2007 through October 31, 2008. See Initiation of Antidumping and Countervailing Duty Administrative Reviews and Request for Revocation in Part, 73 FR 79055 (December 24, 2008). On December 8, 2009, the Department published the preliminary results of this antidumping duty administrative review. See Fresh Garlic From the People's Republic of China: Preliminary Results of, and Intent To Rescind, in Part, the Antidumping Duty Administrative Review, 74 FR 64677 (December 8, 2009) (Preliminary Results).

As explained in the memorandum from the Deputy Assistant Secretary (DAS) for Import Administration, the Department exercised its discretion to toll deadlines for the duration of the closure of the Federal Government from February 5 through February 12, 2010. Thus, all deadlines in this segment of the proceeding were extended by seven days. See Memorandum to the Record from Ronald Lorentzen, DAS for Import Administration, Re: Tolling of Administrative Deadlines As a Result of the Government Closure During the Recent Snowstorm (February 12, 2010). On April 8, 2010, the Department postponed the final results of this review by 30 days, until May 14, 2010. See Fresh Garlic from the People's Republic of China: Extension of Time Limits for Final Results of the Antidumping Duty Administrative Review, 75 FR 19364 (April 14, 2010).

Extension of Time Limits for Final Results

Section 751(a)(3)(A) of the Tariff Act of 1930, as amended (the Act), provides that the Department will issue the final results in an administrative review of an antidumping duty order within 120 days after the date on which the preliminary results are published. However, the Department may extend the deadline for completion of the final results of an administrative review to 180 days if it determines it is not practicable to complete the review within the foregoing time period. See section 751(a)(3)(A) of the Act and 19 CFR 351.213(h)(2).

The Department determines that it is not practicable to complete the final results of this administrative review by the current deadline of May 14, 2010. Specifically, the Department requires additional time to analyze issues raised by interested parties. Thus, we are extending the time for completion of the final results of this administrative review by an additional 30 days, as permitted by section 751(a)(3)(A) of the Act. The final results are now due no later than June 14, 2010.¹

¹ We note that the 187th day after the December 8, 2009 publication date of the preliminary results falls on Sunday, June 13, 2010. When a deadline falls on a weekend, the Department's practice is to use the next business day as the appropriate deadline. See Notice of Clarification: Application of Next Business Day Rule for Administrative Determination Deadlines Pursuant to the Act, 70 FR 24533 (May 10, 2005).

This notice is published in accordance with sections 751(a)(1) and 777(i)(1) of the Act.

Dated: May 11, 2010.
John M. Andersen,
Acting Deputy Assistant Secretary for Antidumping and Countervailing Duty Operations.

[FR Doc. 2010-12580 Filed 5-24-10; 8:45 am]

BILLING CODE 3510-DS-P